ENVIRONMENTAL PROTECTION AGENCY

[ER-FRL-9055-1]

Environmental Impact Statements; Notice of Availability

Responsible Agency: Office of Federal Activities, General Information 202-564-5632 or https://www.epa.gov/nepa.

Weekly receipt of Environmental Impact Statements (EIS)

Filed January 14, 2021 10 a.m. EST Through January 25, 2021 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20210011, Draft, TVA, AL, North Alabama Utility-Scale Solar Facility, Comment Period Ends: 03/15/2021, Contact: Elizabeth Smith 865-632-3053.

Amended Notice

EIS No. 20210007, Draft, USFS, DC, WITHDRAWN—36 CFR 228, Subpart A, Locatable Minerals, Contact: Michael Fracasso 303-241-3330.

Revision to FR Notice Published 01/22/2021; Officially Withdrawn per request of the submitting agency.

EIS No. 20210008, Final, BLM, CA, WITHDRAWN—Crimson Solar Project Final Environmental Impact Statement and Proposed Land Use Amendment to the California Desert Conservation Area Plan, Contact: Miriam Liberatore 541-618-2200.

Revision to FR Notice Published 01/22/2021; Officially Withdrawn per request of the submitting agency.

Dated: January 25, 2021.
Cindy S. Barger,
Director, NEPA Compliance Division, Office of Federal Activities.

[FR Doc. 2021-01957 Filed 1-28-21; 8:45 am]

BILLING CODE 6560-50-P